DEPARTMENT OF LABOR Employment and Training Administration

[TA-W-41,814]

Trus Joist A Weyerhaeuser Business, Engineered Wood Products Operations, Stayton, OR; Notice of Termination of Investigation

Pursuant to section 221 of the Trade Act of 1974, an investigation was initiated on July 15, 2002, in response to a worker petition that was filed by a company official on behalf of workers at Trus Joist a Weyerhaeuser Business, Engineered Wood Products Operations, Stayton, Oregon

The petitioner has requested that the petition be withdrawn. Consequently, further investigation in this case would serve no purpose, and the investigation has been terminated.

Signed in Washington, DC this 8th day of October, 2002.
Richard Church,
Certifying Officer, Division of Trade Adjustment Assistance.

[FR Doc. 02-26755 Filed 10-21-02; 8:45 am]

BILLING CODE 4510-30-P